DEPARTMENT OF HEALTH AND HUMAN SERVICES

Administration for Children and Families

Proposed Information Collection Activity; ACF-901—American Rescue Plan (ARP) Stabilization Grants Provider-Level Data (New Collection)

AGENCY: Office of Child Care, Administration for Children and Families, Health and Human Services (HHS).

ACTION: Request for public comment.

SUMMARY: The Office of Child Care, Administration for Children and Families (ACF), U.S. Department of Health and Human Services (HHS), is proposing to collect data for a new collection, ACF-901—American Rescue Plan (ARP) Stabilization Grants Provider-Level Data. The data collection will provide numbers and characteristics of child care providers receiving ARP Act stabilization grant awards.

DATES: Comments due within 60 days of publication. In compliance with the requirements of the Paperwork Reduction Act of 1995, ACF is soliciting public comment on the specific aspects of the information collection described above.

ADDRESSES: The proposed collection of information will be posted at www.acf.hhs.gov/occ. Comments may be submitted by emailing infocollection@acf.hhs.gov. Alternatively, a copy can also be obtained by emailing infocollection@acf.hhs.gov. All requests should be identified by the title of the information collection.

SUPPLEMENTARY INFORMATION:

Description: The ARP Act of 2021 (Sec. 2202, Pub. L. 117-2) included approximately $24 billion in funding for child care stabilization grants. State and territory lead agencies must spend at least 90 percent of the stabilization funds as subgrants to qualified child care providers to support the stability of the child care sector during and after the COVID-19 public health emergency. Data collection will include child care provider-level information about the numbers and characteristics of child care providers receiving stabilization grant awards.

Respondents: State and Territory Lead Agencies.

Annual Burden Estimates
Instrument | Total number of respondents | Annual number of responses per respondent | Average burden hours per response | Annual burden hours
ACF-901: American Rescue Plan (ARP) Stabilization Grants Provider-Level Data | 56 | 4 | 20 | 4,480

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: The Child Care and Development Block Grant Act (42 U.S.C. 9857 et seq.); 45 CFR parts 98 and 99; the ARP Act of 2021 (Sec. 2202, Pub. L. 117-2).

Mary B. Jones,
ACF/OPRE Certifying Officer.

[FR Doc. 2021-15606 Filed 7-21-21; 8:45 am]

BILLING CODE 4184-84-P